Title 3—

The President

Proclamation 8562 of September 16, 2010

Constitution Day and Citizenship Day, Constitution Week, 2010

By the President of the United States of America

A Proclamation

The summer of 1787 was a watershed moment in our Nation’s history. In the span of four short months, delegates to the Constitutional Convention in Philadelphia established a Constitution for the United States of America, signing the finished charter on September 17, 1787. With their signatures, and subsequent ratification of the Constitution by the States, the Framers advanced our national journey.

On Constitution Day and Citizenship Day, and during Constitution Week, we commemorate the legacy passed down to us from our Nation’s Founders. Our Constitution, with the Bill of Rights and amendments, has stood the test of time, steering our country through times of prosperity and peace, and guiding us through the depths of internal conflict and war. Because of the wisdom of those who have shaped our Nation’s founding documents, and the sacrifices of those who have defended America for over two centuries, we enjoy unprecedented freedoms and opportunities. As beneficiaries, we have a solemn duty to participate in our vibrant democracy so that it remains strong and responsive to the needs of our people.

Each year, thousands of candidates for citizenship commemorate Constitution Day and Citizenship Day by becoming new American citizens. These individuals breathe life into our Constitution by learning about its significance and the rights it enshrines, and then by taking a solemn oath to “support and defend the Constitution and laws of the United States of America.” In so doing, they voluntarily accept that citizenship is not merely a collection of rights, but also a set of responsibilities. Just as our Founders sought to secure the “Blessings of Liberty” for themselves and their posterity, these new Americans have come to our shores to embrace and impart the fundamental beliefs that define us as a Nation.

In the United States, our Constitution is not simply words written on aging parchment, but a foundation of government, a protector of liberties, and a guarantee that we are all free to shape our own destiny. As we celebrate this document’s profound impact on our everyday lives, may all Americans strive to uphold its vision of freedom and justice for all.

In remembrance of the signing of the Constitution and in recognition of the Americans who strive to uphold the duties and responsibilities of citizenship, the Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, BARACK OBAMA, President of the United States of America, do hereby proclaim September 17, 2010, as Constitution Day and Citizenship Day, and September 17 through September 23, 2010, as Constitution Week. I encourage Federal, State, and local officials, as well as leaders of civic, social, and educational organizations, to conduct ceremonies and programs that recognize our Constitution and reaffirm our rights and obligations as citizens of this great Nation.

IN WITNESS WHEREOF, I have hereunto set my hand this sixteenth day of September, in the year of our Lord two thousand ten, and of the Independence of the United States of America the two hundred and thirty-fifth.

[FR Doc. 2010-23898

Filed 9-21-10; 11:15 am]

Billing code 3195-W0-P